DEPARTMENT OF HOUSING AND URBAN DEVELOPMENT

[Docket No. FR-7092-N-25]

Privacy Act of 1974; System of Records

AGENCY: Office of Multi-Family Housing Office, Office of Housing, HUD.

ACTION: Notice of a modified system of records.

SUMMARY: Pursuant to the provisions of the Privacy Act of 1974, as amended, the Department of the Housing and Urban Development (HUD), Office of Multifamily Housing Office, is modifying the system of records notice (SORN) titled “Active Partners Performance System (APPS)”. The Active Partners Performance System (APPS) handles web-based applications for the Business Relationships and Support Contracts Division. The modification makes clarifying changes to migration of SORN to a new template, the Privacy Office contact information, system location, categories of individuals, routine uses and retrieval of records. The updates are explained in the “Supplementary Section” of this notice. This Notice supersedes the previously published on.

DATES: Comments will be accepted on or before April 10, 2024. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; Mr. LaDonne White, Chief Privacy Officer; Office of the Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov .

FOR FURTHER INFORMATION CONTACT: LaDonne White; 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD, Office of Multifamily Housing Office, maintains the APPS system. HUD is publishing this notice to include these changes reflecting the modified items listed below:

1. System Location: Updated to reflect the current locations, which was previously in South Charleston, WV.

2. Categories of Individuals covered by the System: Updated to reflect records collected to a comprehensive list of participants to include general public and their participation in HUD programs.

3. Routine Uses for Records Maintained in the System: Updated to bring it to current applicable routine uses. Routine Use (1) was removed as obsolete. Routine Use (2) was removed to comply with OMB Circular A-108. Routine Use (3) was updated to comply with OMB M-17-12. Routine Use (4) was removed as redundant of exception (b)(6) of the Privacy Act and replaced by the second routine use required by OMB M-17-12. Routine Use (5) was moved to what is now Routine Use (1) and replaced with a routine use to allow for disclosures for law enforcement purposes. Routine Use (6) is added to provide for litigation needs. Routine Use (6) is added to allow HUD to receive effective representation during litigation (such as to the Department of Justice). Routine Use (7) was added to fulfill responsibilities in in 5 U.S.C. 552(h), to review administrative agency policies. Routine Use (7) was added to allow for contractor support.

4. Policies and Practices for Retrieval of Records: Removed the “submission ID” and replaced it with “Social Security Number”. Submission ID brings up the 2530 submission whereas if you must retrieve individuals, you should use SSN.

SYSTEM NAME AND NUMBER:

Active Partners Performance System (APPS), HUD/MFH-01.

SECURITY CLASSIFICATION:

Unclassified.

SYSTEM LOCATION:

HUD Headquarters at 451 Seventh Street SW, Room 6176, Washington, DC 20410-0001. APPS is maintained and backed up on servers housed at the National Center for Critical Information Processing and Storage located at 9325 Cypress Loop Road, Stennis Space Center, MS 39529.

SYSTEM MANAGER:

Devasia Karimpanal, Program Specialist, Office of Housing, Business Relationships and Support Contracts Division, HUD Headquarters, 451 7th Street SW, Rm. 6176, Washington, DC 20410-0001, telephone number (202) 402-7682.

AUTHORITY FOR MAINTENANCE OF THE SYSTEM:

Section 7(d), Department of Housing and Urban Development Act, 79 Stat. 670, (42 U.S.C. 3535(d)). HUD is authorized to collect the Social Security Number (SSN) by section 165(a) of the Housing and Community Development Act of 1987, Public Law 100-242 (42 U.S.C. 3543).

PURPOSES OF THE SYSTEM:

APPS automates the submission and review of HUD previous participation certification process (Form HUD-2530), which initiates the review and approval process for industry entities who would participate in a HUD project. The data collected through the HUD-2530 process is used by HUD employees to assess applicant's suitability to participate in HUD projects considering their track record in carrying out financial, legal, and contractual obligations in previous projects, in a satisfactory and timely manner. An approved HUD-2530 is a prerequisite for industry partners to participate in HUD projects. APPS contains data concerning principal participants in multifamily housing projects, including their previous participation with HUD or other housing agencies. APPS also tracks non-compliance of multifamily project participants' by flagging the participants for non-compliance with regulatory and contractual agreements. Flags are used to evaluate the risk of the participants prior to approval for future participation.

CATEGORIES OF INDIVIDUALS COVERED BY THE SYSTEM:

General public who participate in HUD multifamily/healthcare programs as owners, general contractors, management agents, consultants, facility operators and master tenants.

CATEGORIES OF RECORDS IN THE SYSTEM:

(1) Contact Information: Full Name (first/last), Social Security Number (SSN), Address (work/personal), telephone number (work/personal), Email (work/personal) and Tax Identification Number (TIN). (2) Previous Participation Information: Social Security number (SSN), tax identification number (TIN), and entity type and their legal structure. (3) Project Level Information: Lists of prior HUD projects: Summary of financial, management, or operational difficulties with prior HUD projects (if any); indication of whether principals are or have been the subject of a government investigation; other information relevant to the standards for previous participation approval; minutes of deliberative meetings; flags and the reason for the flag on an external individual or company participant.

RECORD SOURCE CATEGORIES:

Industry partners who are participating in the HUD project and their associates. The following internal application systems access APPS data from a shared repository/server:

• Integrated Real Estate Management System (iREMS).

• Web Access Security System (WASS).

• HUD-2530 eForms.

ROUTINE USES OF RECORDS MAINTAINED IN THE SYSTEM, INCLUDING CATEGORIES OF USERS AND PURPOSES OF SUCH USES:

(1) Congressional Inquiries Disclosure Routine Use: To a congressional office from the record of an individual, in response to an inquiry from the congressional office made at the request of that individual.

(2) Data Breach Remediation Purposes Routine Use: To appropriate agencies, entities, and persons when (1) HUD suspects or has confirmed that there has been a breach of the system of records; (b) HUD has determined that as a result of the suspected or confirmed breach there is a risk of harm to individuals, HUD (including its information systems, programs, and operations), the Federal Government, or national security; and (c) the disclosure made to such agencies, entities, and persons is reasonably necessary to assist in connection with [the agency's] efforts to respond to the suspected or confirmed breach or to prevent, minimize, or remedy such harm.

(3) Data Breach Assistance Routine Use: To another Federal agency or Federal entity, when HUD determines that information from this systems of record is reasonably necessary to assist the recipient agency or entity in (1) responding to a suspected or confirmed breach or (2) preventing, minimizing or remedying the risk of harm to individuals, the recipient agency or entity (including its information systems, programs, and operations), the Federal government, or national security resulting from a suspected or confirmed breach.

(4) Disclosures for Law Enforcement Investigations Routine Uses: To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

(5) Court or Law Enforcement Proceedings Disclosure Routine Uses: To a court, magistrate, administrative tribunal, or arbitrator in the course of presenting evidence, including disclosures to opposing counsel or witnesses in the course of civil discovery, litigation, mediation, or settlement negotiations; or in connection with criminal law proceedings; or in response to a subpoena or to a prosecution request when such records to be released are specifically approved by a court provided order and when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(6) Office of Government Information Services Disclosure Routine Use: To the National Archives and Records Administration (NARA), Office of Government Information Services (OGIS), to the extent necessary to fulfill its responsibilities in 5 U.S.C. 552(h), to review administrative agency policies.

(7) Information Sharing Environment Disclosure Routine Uses: To contractors, grantees, experts, consultants and their agents, or others performing or working under a contract, service, grant, cooperative agreement, or other agreement with HUD, when necessary to accomplish an agency function related to a system of records. Disclosure requirements are limited to only those records data elements considered relevant to accomplishing an agency function.

POLICIES AND PRACTICES FOR STORAGE OF RECORDS:

Electronic Records.

POLICIES AND PRACTICES FOR RETRIEVAL OF RECORDS:

Name, SSN, and TIN.

POLICIES AND PRACTICIES FOR RETENTION AND DISPOSAL OF RECORDS:

Temporary. Maintain active office files for 2 years and then retire to the Federal Records Center. Destroy when 4 years old. HUD Records Disposition Schedule, Section 18, item 4(a). NARA Job No. NC1-207-79-3-4(a).

ADMINISTRATIVE, TECHNICAL, AND PHYSICAL SAFEGUARDS:

Access to the system, storage, backup, and infrastructure equipment is monitored and by password and code identification card access and limited to authorized users.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The rule for contesting the content of any record pertaining to the individual by the individual concerned is published in 24 CFR part 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

Docket No: 81 FR 50000, Agency/Doc No: FR-5921-N-10, July 29, 2016.

LaDonne White,
Chief Privacy Officer, Office of Administration.

[FR Doc. 2024-05100 Filed 3-8-24; 8:45 am]

BILLING CODE 4210-67-P